DEPARTMENT OF STATE

22 CFR Part 5

[Public Notice 10513]

RIN 1400-AE18

Organization

AGENCY: State Department.

ACTION: Final rule.

SUMMARY: The Department of State (the Department) updates and revises the rules that set forth its organization, rules of procedure, place at which the public may obtain forms, and its substantive rules of general applicability.

DATES: This rule is effective on November 9, 2018.

FOR FURTHER INFORMATION CONTACT: Alice Kottmyer, Attorney Adviser, Office of Management, Office of the Legal Adviser, (202) 647-2318, kottmyeram@state.gov.

SUPPLEMENTARY INFORMATION:

Why is the Department promulgating this rule?

The Freedom of Information Act (5 U.S.C. 552(a)(1) requires that agencies publish in the Federal Register certain information.¹ The Department provides this information in Part 5 of Title 22, Code of Federal Regulations. The Department last amended Part 5 in 1968; it is, therefore, obsolete. This rulemaking provides the necessary updates.

¹ (A) Descriptions of its central and field organization and the established places at which, the employees (and in the case of a uniformed service, the members) from whom, and the methods whereby, the public may obtain information, make submittals or requests, or obtain decisions; (B) Statements of the general course and method by which its functions are channeled and determined, including the nature and requirements of all formal and informal procedures available; (C) Rules of procedure, descriptions of forms available or the places at which forms may be obtained, and instructions as to the scope and contents of all papers, reports, or examinations; (D) Substantive rules of general applicability adopted as authorized by law, and statements of general policy or interpretations of general applicability formulated and adopted by the agency; and (E) Each amendment, revision, or repeal of the foregoing.

What are the substantive changes from the current Part 5?

The Authorities section and §§ 5.1 and 5.2 are updated to reflect current authorities. Section 5.2 contains a new provision that refers to the Department's practice of publishing certain delegations of authority in the Federal Register. Section 5.2 also contains a reference to the new § 5.5, which describes the Foreign Affairs Manual and Foreign Affairs Handbook.

Section 5.3, containing the bureau names, contact addresses, and websites of Department offices, is totally revised from the last amendment of this rule in 1968.

Section 5.4 provides a list of substantive rules of general applicability, and where the public can find them in 22 CFR. Provisions that were not listed in 1968 include: Part 22 (Schedule of Fees for Consular Services); Part 103 (Chemical Weapons Convention Regulations); Part 104 (International Trafficking in Persons); Part 141 et seq. (Civil Rights); Part 171 (Availability of Information and Records to the Public); Part 172 (Service of Process); Part 173 (Availability of Public Diplomacy Material in the United States); and Part 181 (Coordination, Reporting, and Publication of International Agreements).

Section 5.5 is new. It describes the Foreign Affairs Manual and the Foreign Affairs Handbook, which is a collection of directives that provide procedures and policies on matters relating to Department management and personnel.

Regulatory Findings

Administrative Procedure Act

This rule is a rule of agency organization, procedure, or practice. The Department publishes it as a final rule in accordance with 5 U.S.C. 553(b)(A).

Regulatory Flexibility Act/Executive Order 13272: Small Business

The Department certifies that this rule will not have a significant economic impact on a substantial number of small entities.

Unfunded Mandates Reform Act of 1995

Section 202 of the Unfunded Mandates Reform Act of 1995, 2 U.S.C. 1532, generally requires agencies to prepare a statement before proposing any rule that may result in an annual expenditure of $100 million or more by State, local, or tribal governments, or by the private sector. This rule will not result in any such expenditure, nor will it significantly or uniquely affect small governments.

Small Business Regulatory Enforcement Fairness Act of 1996

This rule is not a major rule as defined by 5 U.S.C. 804. The Department is aware of no monetary effect on the economy that would result from this rulemaking, nor will there be any increase in costs or prices; or any effect on competition, employment, investment, productivity, innovation, or the ability of United States-based companies to compete with foreign-based companies in domestic and import markets.

Executive Order 12866

The Department of State does not consider this rule to be a “significant regulatory action” under Executive Order 12866, section 3(f), Regulatory Planning and Review. The Department of State has reviewed this rule to ensure its consistency with the regulatory philosophy and principles set forth in Executive Order 12866. This rule deals with Department organization and procedures and will not impose any costs on the public. The Department has determined that the benefits of this regulation, i.e., ensuring compliance with FOIA and providing information and transparency to the public, outweigh any costs.

Executive Orders 12372 and 13132: Federalism

This regulation will not have substantial direct effects on the States, on the relationship between the national government and the States, or the distribution of power and responsibilities among the various levels of government. The rule will not have federalism implications warranting the application of Executive Orders 12372 and 13132.

Executive Order 12988: Civil Justice Reform

The Department has reviewed the regulation in light of sections 3(a) and 3(b)(2) of Executive Order 12988 to eliminate ambiguity, minimize litigation, establish clear legal standards, and reduce burden.

Executive Order 13563: Improving Regulation and Regulatory Review

The Department has considered this rule in light of Executive Order 13563, dated January 18, 2011, and affirms that this regulation is consistent with the guidance therein.

Executive Order 13771—Reducing Regulation and Controlling Regulatory Costs

This rule is not expected to be an E.O. 13771 regulatory action because this rule is not significant under E.O. 12866.

Paperwork Reduction Act

This rule does not impose new or revised information collection requirements under the provisions of the Paperwork Reduction Act, 44 U.S.C. chapter 35.

List of Subjects in 22 CFR Part 5

Organization and functions (Government agencies).

For the reasons set forth in the preamble, the Department of State revises 22 CFR part 5 to read as follows:

PART 5—ORGANIZATION

Sec.
5.1 Introduction.
5.2 Central and field organization.
5.3 Rules of procedure, description of forms available, or the places at which forms may be obtained.
5.4 Substantive rules of general applicability adopted as authorized by law.
5.5 The Foreign Affairs Manual and the Foreign Affairs Handbook.

Authority: 22 U.S.C. 2651a; 5 U.S.C. 552.

§ 5.1 Introduction.

This part provides information to the public as required by the Freedom of Information Act, 5 U.S.C. 552(a)(1).

§ 5.2 Central and field organization.

(a) The central organization of the Department of State is prescribed by the State Department Basic Authorities Act of 1956, as amended (Pub. L. 84-885), codified at 22 U.S.C. 2651 et seq. and the Foreign Affairs Manual (see § 5.5).

(b) As used in this part, the term “Department of State” includes all offices within the Department in Washington, its domestic field offices in the United States, all U.S. diplomatic and consular posts throughout the world, and U.S. missions to international organizations unless otherwise specified.

(c) Any person desiring information concerning a matter handled by the Department of State, or any person desiring to make a submittal or request in connection with such a matter, should communicate either orally or in writing with the appropriate office. If the office receiving the communication does not have jurisdiction to handle the matter, the communication, if written, will be forwarded to the proper office, or, if oral, the person will be advised how to proceed. When the submittal or request from a member of the public consists of a formal application for one of the documents, privileges, or other benefits provided for in the laws administered by the Department of State, or in the regulations implementing these laws, the member of the public should follow the instructions on the form as to preparation and place of submission.

(d) From time to time, the Secretary of State will, to the extent authorized by law, delegate statutory or other authorities to subordinate officers, as authorized by 22 U.S.C. 2651a(a)(4). The Department will generally publish such delegations of authority in the Federal Register.

§ 5.3 Rules of procedure, description of forms available, or the places at which forms may be obtained.

Rules of procedure regarding the following listed matters may be consulted under the corresponding regulations referenced in § 5.4, or obtained upon application to the offices listed below. Forms pertaining to the following listed matters, and instructions relating thereto may also be obtained at the offices indicated in the following table 1 to § 5.3:

Table 1 to § 5.3
Subject matter | Office | Address
Access to Information and Records | Bureau of Administration | Office of Information Programs and Services (IPS), U.S. Department of State, State Annex 2 (SA-2), 515 22nd Street NW, Washington, DC, Suite 8100, 20522-0208, Fax: (202) 261-8579, URL: FOIA.state.gov. For passport records and records of the Office of the Inspector General, please see 22 CFR 171.4(a).
Appointment of Foreign Service Officers | Board of Examiners for the Foreign Service | Board of Examiners for the Foreign Service, Department of State, SA-1, H-518, 2401 E Street NW. Washington, DC 20522.
Authentications | Office of Authentications | U.S. Department of State, 600 19th Street NW, Washington, DC 20006.
Civil Rights | Office of Civil Rights | Office of Civil Rights (S/OCR), 2201 C Street NW, Suite 7428, Washington, DC 20520.
Forms |  | https://eforms.state.gov.
International educational and cultural exchange programs | Bureau of Educational and Cultural Affairs | For ECA-funded programs, Department of State, 2200 C Street NW, Washington, DC 20522-0500, ECA.state.gov; phone (202) 632-6445. For the Exchange Visitor Program, Department of State, SA-4E, Room E-B001—2201 C Street NW, Washington, DC 20520. Jexchanges@state.gov; phone (202) 632-6445.
International Traffic in Arms Regulations | Directorate of Defense Trade Controls | U.S. Department of State, Directorate of Defense Trade Controls, 2401 E Street NW, SA-1, Room H1200, Washington, DC 20037.
U.S. Passports | Passport Services | https://travel.state.gov/, National Passport Information Center, 877-487-2778, 888-874-7793 (TDD/TTY), 8:00 am to 10:00 pm ET Monday-Friday, 10:00 am to 3:00 pm ET Saturday (excluding federal holidays), NPIC@state.gov.
Organizational chart |  | https://www.state.gov/r/pa/ei/rls/dos/99484.htm.
Procurements and assistance, domestic/international acquisition and federal assistance policy | Office of the Procurement Executive | U.S. Department of State, A/OPE (SA-15, Suite 1060), Washington, DC 20522, FAX 703-875-6155.
Protection and welfare of U.S. citizens, intercountry adoption, international child abduction, and other consular services abroad | Overseas Citizen Services | https://travel.state.gov/, 888-407-4747 (from U.S. and Canada), +1 202-501-4444 (from Overseas).
Treaties and international agreements | Office of the Assistant Legal Adviser for Treaty Affairs | https://www.state.gov/s/l/treaty/.
Visa issuance | Office of Visa Services | https://travel.state.gov/, National Visa Center—Public Inquiries, 603-334-0700 (immigrant visas only), 603-334-0888 (nonimmigrant visas only), 7:00 a.m.—12:00 a.m. ET Monday-Friday (excluding federal holidays), https://secureforms.travel.state.gov/ask-nvc.php.

§ 5.4 Substantive rules of general applicability adopted as authorized by law.

(a) The regulations of the Department of State required to be published under the provisions of the Administrative Procedure Act are found in the Code of Federal Regulations (generally in title 22) and in the Federal Register. Any person desiring information with respect to a particular procedure should examine the pertinent regulation cited in paragraph (b) of this section.

(b) The following paragraphs (b)(1) through (18) are citations to regulations within the scope of this section:

(1) Appointment of Foreign Service Officers. 22 CFR part 11 et seq.

(2) Schedule of Fees for Consular Services. 22 CFR part 22.

(3) Claims and Stolen Property. 22 CFR part 31 et seq.

(4) Issuance of Visas. 22 CFR parts 41-42 et seq.

(5) Nationality and Passports. 22 CFR part 50 et seq.

(6) International Educational and Cultural Exchanges. 22 CFR part 62 et seq.

(7) Protection and Welfare of Americans Abroad. 22 CFR part 71 et seq.

(8) Other Consular Services Abroad. 22 CFR part 92 et seq.

(9) Chemical Weapons Convention Regulations. 22 CFR part 103.

(10) International Trafficking in Persons. 22 CFR part 104.

(11) International Traffic in Arms Regulations. 22 CFR part 121 et seq.

(12) Certificates of Authentication. 22 CFR part 131 et seq.

(13) Civil Rights, including implementation of Sections 504 and 508 of the Rehabilitation Act of 1973. 22 CFR part 141 et seq.

(14) Department of State Acquisition Regulation. 48 CFR chapter 6.

(15) Availability of Information and Records to the Public. 22 CFR part 171.

(16) Service of Process. 22 CFR part 172.

(17) Availability of Public Diplomacy Program Material in the United States. 22 CFR part 173.

(18) Coordination, Reporting, and Publication of International Agreements. 22 CFR part 181.

(c) The regulations listed in paragraph (b) of this section are supplemented from time to time by amendments appearing initially in the Federal Register.

§ 5.5. The Foreign Affairs Manual and the Foreign Affairs Handbook.

The Department articulates official guidance, including procedures and policies, on matters relating to Department management and personnel in the Foreign Affairs Manual (FAM) and the Foreign Affairs Handbook (FAH) series. Some of these directives are promulgated pursuant to statute, such as the Secretary of State's authority to prescribe regulations for the Foreign Service as provided in Section 206 of the Foreign Service Act of 1980, as amended, 22 U.S.C. 3926. The FAMs and FAHs that are publicly available are located on the Department's public website, at https://fam.state.gov/.

Dated: September 26, 2018.
Alicia A. Frechette,
Executive Director, Office of the Legal Adviser and Bureau of Legislative Affairs, Department of State.

[FR Doc. 2018-22011 Filed 10-9-18; 8:45 am]

BILLING CODE 4710-10-P